DEPARTMENT OF TRANSPORTATION

Surface Transportation Board

[STB Finance Docket No. 34017]

Western New York & Pennsylvania Railroad, LLC—Lease and Operation Exemption—Norfolk Southern Railway Company and Pennsylvania Lines LLC

Western New York & Pennsylvania Railroad, LLC (WNYP), a noncarrier, has filed a verified notice of exemption under 49 CFR 1150.31 to sublease (except for a 0.3-mile segment over which it will have trackage rights as described below) from Norfolk Southern Railway Company (NS) and operate a rail line in Steuben, Allegany, Cattaraugus and Chautauqua Counties, NY, and Erie County, PA (subject line).¹ The subject line extends between approximately milepost 332, at Hornell, NY, and approximately milepost 60.5, at Corry, PA, a total distance of approximately 145.2 route miles.² WNYP will acquire incidental trackage rights on the 0.3-mile portion of the subject line between approximately milepost 394.9 and approximately milepost 395.2. In addition, WNYP will acquire incidental trackage rights over 2.7 additional miles of passing track between milepost 395.1 and approximately milepost 397.8.

¹ The subject line is owned by the Chautauqua, Cattaraugus, Allegany and Steuben Southern Tier Extension Railroad Authority, currently leased by Pennsylvania Lines LLC, and operated by NS.

² According to the verified notice, the portions of the rail line east of Olean, NY, approximately milepost 394.9, and west of Lakewood, NY, approximately milepost 36.9, are presently out of service.

The parties report that they intend to consummate the transaction on the effective date of the exemption. The earliest the transaction could have been consummated was April 19, 2001 (7 days after the exemption was filed).

This transaction is related to STB Finance Docket No. 34016, Livonia, Avon & Lakeville Railroad—Continuance in Control Exemption—Western New York & Pennsylvania Railroad, LLC, wherein Livonia, Avon & Lakeville Railroad has concurrently filed a verified notice to continue in control of WNYP upon its becoming a Class III rail carrier.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34017, must be filed with the Surface Transportation Board, Office of the Secretary, Case Control Unit, 1925 K Street, NW., Washington, DC 20423-0001. In addition, a copy of each pleading must be served on Kevin M. Sheys, Kirkpatrick & Lockhart, LLP, 1800 Massachusetts Avenue, NW., Second Floor, Washington, DC 20036.

Board decisions and notices are available on our website at “www.stb.dot.gov.”

Decided: April 23, 2001.
By the Board, David M. Konschnik, Director, Office of Proceedings.
Vernon A. Williams,
Secretary.

[FR Doc. 01-10551 Filed 4-27-01; 8:45 am]

BILLING CODE 4915-00-P